ENVIRONMENTAL PROTECTION AGENCY

Environmental Impact Statements; Notice of Availability

Responsible Agency: Office of Federal Activities, General Information (202) 564-7167 or http://www.epa.gov/compliance/nepa/. weekly receipt of Environmental Impact Statements Filed August 25, 2003 Through August 29, 2003 Pursuant to 40 CFR 1506.9.

EIS No. 030398, Draft EIS, FRA, FL, Florida High Speed Rail from Tampa to Orlando, Transportation Improvement, NPDES Permit and U.S. Army COE Section 404 Permit, Hillsborough, Orange, Osceola and Polk Counties, FL, Comment Period Ends: October 20, 2003, Contact: David Valenstein (202) 493-6368.

EIS No. 030399, Draft EIS, EPA, SC, Port Royal Ocean Dredged Material Disposal Site (ODMDS), Designation, SC, Comment Period Ends: October 20, 2003, Contact: Wesley B. Crum (404) 562-9352.

EIS No. 030400, Draft EIS, FHW, LA, Kansas Lane Connector Project, Construction between US Highway 80 (Desiard Street) and U.S. Highway 165 and the Forsythe Avenue Extension, U.S. Army COE Section 10 and 404 Permits, City of Monroe, Quachita Parish, LA, Comment Period Ends: October 31, 2003, Contact: Wayne Nguyen (225) 248-4193.

EIS No. 030401, Draft EIS, FRC, OR, Pelton Round Butte Hydroelectric Project, (FERC No. 2030-036), Application for a New License for Existing 366.82-megawatt Project, Deschutes River, OR, Comment Period Ends: October 20, 2003, Contact: Nicholas Jayjack (202) 502-6073. This document is available on the Internet at: http://www.ferc.gov.

EIS No. 030402, Draft EIS, IBR, AZ, Wellton-Mohawk Title Transfer Project, Transfer of the Facilities, Works, and Lands, Wellton-Mohawk Division of the Gila Project, Wellton-Mohawk Irrigation and Drainage District, Yuma County, AZ, Comment Period Ends: November 04, 2003, Contact: Margot Selig (702) 293-8192.

EIS No. 030403, Draft EIS, AFS, OR, North Fork Burnt River Mining Project, Proposal for Mineral Plans of Operation, Implementation, Wallowa-Whitman National Forest, Unity Ranger District, Whitman Unit, Blue Mountains, Town of Unity, Baker County, OR, Comment Period Ends: October 20, 2003, Contact: Wayne Frye (541) 523-1945.

EIS No. 030404, Draft EIS, AFS, WA, Crupina Integrated Weed Management Project, Control and Eradication of Crupina, Implementation, Okanogan and Wenatchee National Forests, Chelan Ranger District, Chelan County, WA, Comment Period Ends: October 20, 2003, Contact: Mallory Lenz (509) 682-2576.

EIS No. 030405, Final EIS, FHW, MT, U.S. 89 from Fairfield to Dupuyer Corridors Study, Reconstruction, Widening, Realignment and Route Connection between Yellowstone National Park to the South with Glacier National Park to the North, Teton and Pondera Counties, MT, Wait Period Ends: October 06, 2003, Contact: Darrin Grenfell (406) 449-5302.

Amended Notices

EIS No. 030266, Draft EIS, EPA, KY, VA, TN, WV, Programmatic—Mountaintop Mining and Valley Fills Program Guidance, Policies or Regulations to Minimize Adverse Environmental Effects to Waters of the U.S. and Fish and Wildlife Resources, Implementation, Appalachia, Appalachian Study Area, WV, KY, VA and TN, Comment Period Ends: January 6, 2004, Contact: John Forren (EPA) (215) 814-2705. Revision of FR Notice Published on 8/22/2003: CEQ Comment Period Ending 9/6/2004 has been Corrected to 1/6/2004.

EIS No. 230392, Draft Supplement, NOA, AK, Programmatic EIS—Alaska Groundfish Fisheries, New Information concerning the Ecosystem and a Preferred Alternative, Fishery Management Plans for the Groundfish Fishery of the Gulf of Alaska and the Groundfish of the Bering Sea and Aleutian Islands Area, North Pacific Fishery Management Council, AK, Comment Period Ends: October 15, 2003, Contact: James W. Balsiger (907) 586-7221. Revision of FR Notice Published on 8/29/2003: Correction of Document Status from Revised Draft to Draft Supplement.

Dated: September 2, 2003.
Joseph C. Montgomery,
Director, NEPA Compliance Division, Office of Federal Activities.

[FR Doc. 03-22634 Filed 9-4-03; 8:45 am]

BILLING CODE 6560-50-P